DEPARTMENT OF COMMERCE

International Trade Administration

[A-583-856]

Certain Corrosion-Resistant Steel Products From Taiwan: Final Results of the Antidumping Duty Administrative Review; 2022-2023

AGENCY: Enforcement and Compliance, International Trade Administration, Department of Commerce.

SUMMARY: The U.S. Department of Commerce (Commerce) determines that certain corrosion-resistant steel products (CORE) from Taiwan are being sold in the United States at less than normal value during the period of review (POR), July 1, 2022, through June 30, 2023.

DATES: Applicable May 7, 2025.

FOR FURTHER INFORMATION CONTACT: Deborah Cohen or Anjali Mehindiratta, AD/CVD Operations, Office III, Enforcement and Compliance, International Trade Administration, U.S. Department of Commerce, 1401 Constitution Avenue NW, Washington, DC 20230; telephone: (202) 482-4521 or (202) 482-9127, respectively.

SUPPLEMENTARY INFORMATION:

Background

On September 4, 2024, Commerce published the Preliminary Results in the Federal Register.¹ On September 23, 2024, we received a case brief regarding the Preliminary Results from mandatory respondent, Prosperity Tieh Enterprise Co., Ltd. (Prosperity).² On September 30, 2024, we received a rebuttal brief from Cleveland-Cliffs Inc. (the petitioner).³ On December 9, 2024, Commerce tolled the deadline for this administrative review by 90 days.⁴ On March 28, 2025, Commerce extended the deadline for issuing the final results by an additional 30 days, to May 2, 2025, pursuant to section 751(a)(3)(A) of the Tariff Act of 1930, as amended (the Act).⁵ For a complete description of the events that followed the Preliminary Results, see the Issues and Decision Memorandum.⁶

¹ See Certain Corrosion Resistant Steel Products from Taiwan: Preliminary Results and Recission, In Part, of Antidumping Duty Administrative Review; 2022-2023, 89 FR 71878 (September 4, 2024) (Preliminary Results), and accompanying Preliminary Decision Memorandum.

² See Prosperity's Letter, “Prosperity Tieh's Case Brief,” dated September 23, 2024. (Prosperity's Case Brief).

³ See Petitioner's Letter, “Petitioners' Rebuttal Brief,” dated September 30, 2024 (Petitioners' Case Brief).

⁴ See Memorandum, “Tolling of Deadlines for Antidumping and Countervailing Duty Proceedings,” dated December 9, 2024, and filed to the record on March 25, 2025.

⁵ See Memorandum, “Certain Corrosion-Resistant Steel Products from Taiwan: Extension of Deadline for Final Results of Antidumping Duty Administrative Review,” dated March 28, 2025.

⁶ See Memorandum, “Issues and Decision Memorandum for the Final Results of the Antidumping Duty Administrative Review: Certain Corrosion-Resistant Steel Products from Taiwan; 2022-2023,” dated concurrently with, and hereby adopted by, this notice (Issues and Decision Memorandum).

Scope of the Order ⁷

⁷ See Certain Corrosion-Resistant Steel Products from India, Italy, the People's Republic of China, the Republic of Korea and Taiwan: Amended Final Affirmative Antidumping Determination for India and Taiwan, and Antidumping Duty Orders, 81 FR 48390 (July 25, 2016) (Order).

The products covered by this Order are certain flat-rolled steel products, either clad, plated, or coated with corrosion-resistant metals. The full description of the scope of the Order is contained in the Issues and Decision Memorandum.

Analysis of Comments Received

All issues raised in the case and rebuttal briefs are addressed in the Issues and Decision Memorandum. A list of the issues that parties raised and to which we responded in the Issues and Decision Memorandum is attached as the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties regarding the Preliminary Results, we made certain changes to the preliminary margin calculation for mandatory respondent, Prosperity.⁸ Though we did not receive comment on the Preliminary Results with respect to the preliminary margin calculated for the other mandatory respondent subject to individual review, Sheng Yu Steel Co., Ltd. (SYSCO), we updated the margin calculation for SYSCO to incorporate an updated sales database requested of SYSCO in the post-preliminary stage of this review.⁹ However, the incorporation of revised sales data from SYSCO into the preliminary margin calculation resulted in no change to the preliminary margin calculated for it.¹⁰

⁸ For a full description of these changes, see the Issues and Decision Memorandum; see also Memorandum, “Final Results Margin Calculation for Prosperity Tieh Enterprise Co., Ltd.,” dated concurrently with this notice.

⁹ See Memorandum, “SYSCO's Analysis Memorandum for the Final Results of the Certain Corrosion-Resistant Steel Products from Taiwan Antidumping Duty Administrative Review; 2022-2023,” dated concurrently with this notice.

¹⁰ Id.

Rate for Non-Examined Companies

The Act and Commerce's regulations do not directly address the establishment of a rate to be applied to individual companies not selected for examination when Commerce limits its examination in an administrative review pursuant to section 777A(c)(2) of the Act. Generally, Commerce looks to section 735(c)(5) of the Act, which provides instructions for calculating the all-others rate in a market economy investigation, for guidance when calculating the rate for companies which were not selected for individual review in an administrative review. Under section 735(c)(5)(A) of the Act, the all-others rate is normally “an amount equal to the weighted average of the estimated weighted-average dumping margins established for exporters and producers individually investigated, excluding any zero or de minimis margins, and any margins determined entirely {on the basis of facts available}.”

For the final results of this administrative review, we calculated a dumping margin of zero percent for SYSCO and 0.99 percent for Prosperity. Thus, we assign to the non-selected company, Great Grandeul Steel Company Limited (Samoa), a weighted-average dumping margin of 0.99 percent, based on the rate calculated for Prosperity, the only rate that is not zero, de minimis, or based entirely on facts otherwise available.

Final Results of Review

Commerce determines that the following estimated weighted-average dumping margins exist for the period July 1, 2022, through June 30, 2023:

Exporter/producer | Weighted-average dumping margin (percent)
Sheng Yu Steel Co., Ltd | 0.00
Prosperity Tieh Enterprise Co., Ltd | 0.99
Great Grandeul Steel Company Limited (Samoa) | 0.99

Disclosure

Commerce intends to disclose the calculations performed in connection with these final results to interested parties within five days of the date of publication of this notice, in accordance with 19 CFR 351.224(b).

Assessment Rates

Pursuant to section 751(a)(2)(C) of the Act, and 19 CFR 351.212(b)(1), Commerce will determine, and U.S. Customs and Border Protection (CBP) shall assess, antidumping duties on all appropriate entries of subject merchandise in accordance with the final results of this review. The final results of this review shall be the basis for the assessment of antidumping duties on entries of merchandise covered by this review and for future deposits of estimated duties, where applicable.¹¹

¹¹ See section 751(a)(2)(C) of the Act.

Pursuant to 19 CFR 351.212(b)(1), we calculated importer-specific ad valorem duty assessment rates based on the ratio of the total amount of dumping calculated for each importer's examined sales and the total entered value reported for those sales. Where the respondent did not report entered value, we calculated a per-unit assessment rate for each importer by dividing the total amount of dumping calculated for the examined sales made to that importer by the total quantity associated with those sales. To determine whether an importer-specific, per-unit assessment rate is de minimis, in accordance with 19 CFR 351.106(c)(2), we also calculated an importer-specific ad valorem ratio based on estimated entered values. Where either the respondent's weighted-average dumping margin is zero or de minimis, within the meaning of 19 CFR 351.106(c)(1), or an importer-specific rate is zero or de minimis, we will instruct CBP to liquidate the appropriate entries without regard to antidumping duties.

For entries of subject merchandise during the POR produced by the respondents for which they did not know that the merchandise was destined for the United States, we will instruct CBP to liquidate entries not reviewed at the all-others rate if there is no rate for the intermediate company(ies) involved in the transaction.¹² For the company which was not selected for individual examination, we will instruct CBP to assess antidumping duties at an ad valorem assessment rate equal to the dumping margin identified for Prosperity Tieh (i.e., the only rate calculated in this review which is not zero, de minimis, or based entirely on facts available), in the “Final Results of Review” section, above.

¹² See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of administrative review for all shipments of subject merchandise entered, or withdrawn from warehouse, for consumption on, or after, the publication date of the final results of review, as provided for by section 751(a)(2)(C) of the Act: (1) the cash deposit rates for the companies identified above in the “Final Results of Review” section will be equal to the company-specific weighted-average dumping margin established in the final results of this administrative review; (2) for merchandise exported by producers or exporters not covered in this review but covered in a prior completed segment of the proceeding, the cash deposit rate will continue to be the company-specific rate published for the most recent period; (3) if the exporter is not a firm covered in this review, a prior review, or the original investigation, but the producer has been covered in a prior complete segment of this proceeding, then the cash deposit rate will be the rate established for the most recent period for the producer of the merchandise; (4) the cash deposit rate for all other manufacturers or exporters will continue to be 11.04 percent,¹³ the all-others rate from the Third Amended Final Determination. These cash deposit requirements, when imposed, shall remain in effect until further notice.

¹³ See Corrosion-Resistant Steel Products from Taiwan: Notice of Third Amended Final Determination of Sales at Less Than Fair Value Pursuant to Court Decision and Partial Exclusion From Antidumping Duty Order, 88 FR 58245 (August 25, 2023) (Third Amended Final Determination).

Notification to Importers

This notice also serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Order

This notice also serves as the final reminder to parties subject to an administrative protective order (APO) of their responsibility concerning the disposition of proprietary information disclosed under APO in accordance with 19 CFR 351.305(a)(3). Timely written notification of return/destruction of APO materials or conversion to judicial protective order is hereby requested. Failure to comply with the regulations and terms of an APO is a sanctionable violation.

Notification to Interested Parties

We are issuing and publishing this notice in accordance with sections 751(a)(l) and 777(i)(l) of the Act, 19 CFR 351.221(b)(5).

Dated: May 1, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Changes from the Preliminary Results

V. Discussion of the Issues

Comment 1: Whether to Apply Quarterly Cost Methodology

Comment 2: Correction of Prosperity's Name in Federal Register Notice

VI. Recommendation

[FR Doc. 2025-07962 Filed 5-6-25; 8:45 am]

BILLING CODE 3510-DS-P